DEPARTMENT OF COMMERCE

International Trade Administration

[A-570-851]

Certain Preserved Mushrooms From the People's Republic of China: Extension of Time Limit for Final Results of Antidumping Duty Administrative Review and New Shipper Review

AGENCY: Import Administration, International Trade Administration, United States Department of Commerce.

ACTION: Notice of extension of the time limit for the final results in the administrative review and new shipper review of the antidumping duty order on certain preserved mushrooms from the People's Republic of China.

SUMMARY: The United States Department of Commerce (“the Department”) is extending the time limit for the final results of the administrative review and new shipper review of the antidumping duty order on certain preserved mushrooms from the People's Republic of China (“PRC”). These reviews cover the period February 1, 2002, through January 31, 2003, and are being conducted concurrently.

DATES: Effective Date: May 3, 2004.

FOR FURTHER INFORMATION CONTACT: Brian Smith at (202) 482-1766, Office of AD/CVD Enforcement, Import Administration, International Trade Administration, U.S. Department of Commerce, 14th Street and Constitution Avenue, NW., Washington, DC 20230.

SUPPLEMENTARY INFORMATION:

Background

On March 5, 2004, the Department of Commerce (“the Department”) published the preliminary results of the administrative review and new shipper review of the antidumping duty order on certain preserved mushrooms from the People's Republic of China. See Certain Preserved Mushrooms from the People's Republic of China: Preliminary Results of Sixth New Shipper Review and Preliminary Results and Partial Rescission of Fourth Antidumping Duty Administrative Review, 69 FR 10410. The current deadline for the final results in these reviews is July 3, 2004.¹ These reviews have been aligned. See 68 FR 15152.

¹ Since July 3, 2003, is a Saturday, the preliminary results are due on the next business day, July 6, 2003.

Statutory Time Limits

Pursuant to section 751(a)(3)(A) of the Tariff Act of 1930, as amended (“the Act”), the Department shall make a final determination in an administrative review of an antidumping duty order within 120 days after the date on which the preliminary determination is published. If it is not practicable to complete the review within the foregoing time, the administering authority may extend that 120-day period to 180 days. Furthermore, pursuant to 751(a)(2)(B)(iv) of the Act, the Department shall make a final determination in a new shipper review within 90 days after the date the preliminary determination is issued, except that if the administering authority concludes that the case is extraordinarily complicated, it may extend the 90-day period to 150 days.

Extension of Time Limit

The Department finds that it is not practicable to complete the final results in the administrative review of certain preserved mushrooms from the PRC within the current time frame due to the fact that a sales and factors-of-production verification has been re-scheduled to take place in early June, which will set back the briefing schedule in this review until a period after the issuance of the verification report. Furthermore, the Department finds that it would be extraordinarily complicated to complete the final results of the new shipper review within this time frame because, to retain alignment of these reviews, the briefing schedule in this review will have to be set back as well.

Therefore, in accordance with sections 751(a)(3)(A) and 751(a)(2)(B)(iv) of the Act, the Department is extending the time for completion of the final results of these reviews until September 1, 2004, which is 180 days after the date on which notice of the preliminary results was published in the Federal Register.

Dated: April 27, 2004.
Jeffrey May,
Deputy Assistant Secretary for Import Administration.

[FR Doc. 04-9996 Filed 4-30-04; 8:45 am]

BILLING CODE 3510-DS-P